DEPARTMENT OF THE INTERIOR

Fish and Wildlife Service

50 CFR Part 32

[Docket No. FWS-HQ-NWRS-2023-0038; FXRS12610900000-234-FF09R20000]

RIN 1018-BG71

National Wildlife Refuge System; 2023-2024 Station-Specific Hunting and Sport Fishing Regulations

AGENCY: Fish and Wildlife Service, Interior.

ACTION: Proposed rule.

SUMMARY: We, the U.S. Fish and Wildlife Service (Service), propose to expand hunting opportunities on three National Wildlife Refuges (NWRs). We also propose to make changes to existing station-specific regulations in order to reduce the regulatory burden on the public, increase access for hunters and anglers on Service lands and waters, and comply with a Presidential mandate for plain language standards. Finally, the best available science, analyzed as part of this proposed rulemaking, indicates that lead ammunition and tackle have negative impacts on both wildlife and human health. In this proposed rule, Blackwater, Chincoteague, Eastern Neck, Erie, Great Thicket, Patuxent Research Refuge, Rachel Carson, and Wallops Island NWRs are each proposing a non-lead requirement, which would take effect on September 1, 2026, if we adopt them as part of a final rule. While the Service continues to evaluate the future of lead use in hunting and fishing on Service lands and waters, this rulemaking does not include any opportunities proposing to increase or authorize the new use of lead beyond fall 2026.

DATES: We will accept comments received or postmarked on or before August 22, 2023.

ADDRESSES:

Written comments: You may submit comments by one of the following methods:

• Electronically: Go to the Federal eRulemaking Portal: https://www.regulations.gov. In the Search box, type in FWS-HQ-NWRS-2023-0038, which is the docket number for this rulemaking. Then, click on the Search button. On the resulting screen, find the correct document and submit a comment by clicking on “Comment.”

• By hard copy: Submit by U.S. mail or hand delivery: Public Comments Processing, Attn: FWS-HQ-NWRS-2023-0038, U.S. Fish and Wildlife Service, 5275 Leesburg Pike, MS: PRB (JAO/3W), Falls Church, VA 22041-3803.

We will not accept email or faxes. We will post all comments on https://www.regulations.gov. This generally means that we will post any personal information you provide us (see Request for Comments, below, for more information).

Supporting documents: For information on a specific refuge's or hatchery's public use program and the conditions that apply to it, contact the respective regional office at the address or phone number given in Available Information for Specific Stations under SUPPLEMENTARY INFORMATION.

FOR FURTHER INFORMATION CONTACT: Kate Harrigan, (703) 358-2440. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The National Wildlife Refuge System Administration Act of 1966 (16 U.S.C. 668dd-668ee), as amended (Administration Act), closes NWRs in all States except Alaska to all uses until opened. The Secretary of the Interior (Secretary) may open refuge areas to any use, including hunting and/or sport fishing, upon a determination that the use is compatible with the purposes of the refuge and National Wildlife Refuge System (Refuge System) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Service's mission.

Provisions governing hunting and sport fishing on refuges are in title 50 of the Code of Federal Regulations at part 32 (50 CFR part 32), and on hatcheries at part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate to meet these objectives. On other stations, we must supplement State regulations with more-restrictive Federal regulations to ensure that we meet our management responsibilities, as outlined under Statutory Authority, below. We issue station-specific hunting and sport fishing regulations when we open wildlife refuges and fish hatcheries to migratory game bird hunting, upland game hunting, big game hunting, or sport fishing. These regulations may list the wildlife species that you may hunt or fish; seasons; bag or creel (container for carrying fish) limits; methods of hunting or sport fishing; descriptions of areas open to hunting or sport fishing; and other provisions as appropriate.

Statutory Authority

The Administration Act, as amended by the National Wildlife Refuge System Improvement Act of 1997 (Improvement Act; Pub. L. 105-57), governs the administration and public use of refuges, and the Refuge Recreation Act of 1962 (Recreation Act; 16 U.S.C. 460k-460k-4) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges to the lists of areas open to hunting and sport fishing in 50 CFR parts 32 and 71. We ensure continued compliance by the development of comprehensive conservation plans and step-down management plans, and by annual review of hunting and sport fishing programs and regulations.

Proposed Amendments to Existing Regulations

Updates to Hunting and Fishing Opportunities on NWRs

This document proposes to codify in the Code of Federal Regulations all the Service's hunting and/or sport fishing regulations that we would update since the last time we published a rule amending these regulations (87 FR 57108; September 16, 2022) and that are applicable at Refuge System units previously opened to hunting and/or sport fishing. We propose this to better inform the general public of the regulations at each station, to increase understanding and compliance with these regulations, and to make enforcement of these regulations more efficient. In addition to finding these regulations in 50 CFR parts 32, visitors to our stations may find them reiterated in literature distributed by each station or posted on signs.

Table 1—Proposed Changes for 2023-2024 Hunting/Sport Fishing Season
Station | State | Migratory bird hunting | Upland game hunting | Big game hunting | Sport fishing
Cahaba River NWR | Alabama | Closed | Already Open | E | Already Open.
Everglades Headwaters NWR | Florida | E | E | E | Closed.
Minnesota Valley NWR | Minnesota | E | E | E | Already Open.
Key:
E = Expansion (Station is already open to the activity: the proposed rule would add new lands/waters, modify areas open to hunting or fishing, extend season dates, add a targeted hunt, modify season dates, modify hunting hours, etc.)

The changes for the 2023-2024 hunting/fishing season noted in the table above are each based on a complete administrative record which, among other detailed documentation, also includes a hunt plan, a compatibility determination (for refuges), and the appropriate National Environmental Policy Act (NEPA; 42 U.S.C. 4321 et seq.) analysis, all of which were the subject of a public review and comment process. These documents are available upon request.

The Service remains concerned that lead is an important issue, and we will continue to appropriately evaluate and regulate the use of lead ammunition and tackle on Service lands and waters. The Service has initiated stakeholder engagement to implement a deliberate, open, and transparent process of evaluating the future of lead use on Service lands and waters, working with our State partners, and seeking input and recommendations from the Hunting and Wildlife Conservation Council, other stakeholders, and the public. The best available science, analyzed as part of this proposed rulemaking, indicates that lead ammunition and tackle have negative impacts on both wildlife and human health. Based on the best available science and sound professional judgment, where appropriate, the Service may propose to require the use of non-lead ammunition and tackle on Service lands and waters, as we have done in certain cases already. While the Service continues to evaluate the future of lead use in hunting and fishing on Service lands and waters, we will continue to work with stakeholders and the public to evaluate lead use through the annual rulemaking process. In the interim, we will not allow for any increase in lead use on Service lands and waters. Therefore, this rule does not include any opportunities proposing to increase or authorize the new use of lead. Minnesota Valley NWR already requires non-lead ammunition for the migratory bird and upland game hunting opportunities proposed to be expanded, and the refuge's proposed expansion of the big game hunt involves only archery deer hunting, which does not involve lead ammunition, as part of a special hunt program. Cahaba River NWR is proposing to expand archery deer hunting, which does not involve lead ammunition. Everglades Headwaters NWR is proposing to expand existing migratory game bird, upland game, and big game hunting to new acres that will require the use of non-lead ammunition immediately in the fall 2023 season; the proposed rule would require non-lead ammunition only within the newly expanded acres for hunting on the refuge. This proposed restriction on lead ammunition has been developed in coordination with the State of Florida's Fish and Wildlife Conservation Commission. As we noted in our September 16, 2022, final rule (87 FR 57108), in this proposed rule, Blackwater, Chincoteague, Eastern Neck, Erie, Great Thicket, Patuxent Research Refuge, Rachel Carson, and Wallops Island NWRs are proposing a non-lead equipment requirement, which would be effective on September 1, 2026, if we adopt the provisions in a final rule. Specifically, all eight refuges would require the use of non-lead ammunition by fall 2026, and seven of the eight, excepting Chincoteague, would require the use of non-lead tackle by fall 2026 as well.

The Service is also providing a supplemental opportunity for public comment on regulatory provisions regarding use of dogs on the Silvio O. Conte National Fish and Wildlife Refuge in Vermont and New Hampshire that were promulgated in 2021 (see 86 FR 48822; August 31, 2021). The Service's preference in evaluating these 2021 regulatory changes is to allow dog training on the refuge from August 1 to the last Saturday in September. The Service would not require a permit for dog training or hunting with more than two dogs. The Service would only allow the use of dogs on the Putney Mountain Unit to hunt ruffed grouse, fall turkey, squirrel, and woodcock (see the proposed revisions to 50 CFR 32.64 in the rule portion of this document). We recently sought public review and comment on an update to the refuge's 2023 hunting and fishing plan and a supplemental environmental assessment (EA) that provided description and analysis of the provisions regarding use of dogs. That comment period ended on May 25, 2023. The Service considered those comments and used them to inform the decision in the finding of no significant impact associated with the supplemental EA. Comments made on this proposed rule pertaining to dog use and removal of the permit requirements related to dogs on the Silvio O. Conte Refuge will also be duly considered. If we receive compelling information or data that leads us to conclude that the relevant regulatory provisions should be removed or revised, then we may take that action in the final rule.

Fish Advisory

For health reasons, anglers should review and follow State-issued consumption advisories before enjoying recreational sport fishing opportunities on Service-managed waters. You can find information about current fish-consumption advisories on the internet at https://www.epa.gov/fish-tech.

Request for Comments

You may submit comments and materials on this proposed rule by one of the methods listed in ADDRESSES. We will not accept comments sent by email or fax or to an address not listed in ADDRESSES. We will not consider hand-delivered comments that we do not receive, or mailed comments that are not postmarked, by the date specified in DATES.

We will post your entire comment on https://www.regulations.gov. Before including personal identifying information in your comment, you should be aware that we may make your entire comment—including your personal identifying information—publicly available at any time. While you can ask us in your comment to withhold your personal identifying information from public review, we cannot guarantee that we will be able to do so. We will post all hardcopy comments on https://www.regulations.gov.

Required Determinations

Clarity of This Proposed Rule

Executive Orders 12866 and 12988 and the Presidential Memorandum of June 1, 1998, require us to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Regulatory Planning and Review (Executive Orders 12866 and 13563)

Executive Order 12866 provides that the Office of Information and Regulatory Affairs (OIRA) will review all significant rules. OIRA has determined that this rulemaking is not significant.

Executive Order (E.O.) 14094 reaffirms the principles of E.O. 12866 and E.O 13563 and states that regulatory analysis should facilitate agency efforts to develop regulations that serve the public interest, advance statutory objectives, and are consistent with E.O. 12866, E.O. 13563, and the Presidential Memorandum of January 20, 2021 (Modernizing Regulatory Review). Regulatory analysis, as practicable and appropriate, shall recognize distributive impacts and equity, to the extent permitted by law. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This proposed rule would open or expand hunting on three NWRs. As a result, visitor use for wildlife-dependent recreation on these stations will change. If the stations establishing new programs were a pure addition to the current supply of those activities, it would mean an estimated maximum increase of 586 user days (one person per day participating in a recreational opportunity; see table 2). Because the participation trend is flat in these activities, this increase in supply will most likely be offset by other sites losing participants. Therefore, this is likely to be a substitute site for the activity and not necessarily an increase in participation rates for the activity.

Table 2—Estimated Maximum Change in Recreation Opportunities in 2023-2024
[2022 Dollars in thousands]
Station | Additional hunting days | Additional fishing days | Additional expenditures
Cahaba River NWR | 120 |  | $4
Everglades Headwaters NWR | 225 |  | 9
Minnesota Valley NWR | 241 |  | 9
Total | 586 |  | 22

To the extent visitors spend time and money in the area of the station that they would not have spent there anyway, they contribute new income to the regional economy and benefit local businesses. Due to the unavailability of site-specific expenditure data, we use the national estimates from the 2016 National Survey of Fishing, Hunting, and Wildlife Associated Recreation to identify expenditures for food and lodging, transportation, and other incidental expenses. Using the average expenditures for these categories with the maximum expected additional participation of the Refuge System yields approximately $22,000 in recreation-related expenditures (see table 2, above). By having ripple effects throughout the economy, these direct expenditures are only part of the economic impact of these recreational activities. Using a national impact multiplier for hunting activities (2.51) derived from the report “Hunting in America: An Economic Force for Conservation” and for fishing activities (2.51) derived from the report “Sportfishing in America” yields a total maximum economic impact of approximately $56,000 (2022 dollars) (Southwick Associates, Inc., 2018).

Since we know that most of the fishing and hunting occurs within 100 miles of a participant's residence, then it is unlikely that most of this spending will be “new” money coming into a local economy; therefore, this spending will be offset with a decrease in some other sector of the local economy. The net gain to the local economies will be no more than $56,000 and likely less. Since 80 percent of the participants travel less than 100 miles to engage in hunting and fishing activities, their spending patterns will not add new money into the local economy and, therefore, the real impact will be on the order of about $22,000 annually.

Small businesses within the retail trade industry (such as hotels, gas stations, taxidermy shops, bait-and-tackle shops, and similar businesses) may be affected by some increased or decreased station visitation. A large percentage of these retail trade establishments in the local communities around NWRs qualify as small businesses (see table 3, below). We expect that the incremental recreational changes will be scattered, and so we do not expect that the rule will have a significant economic effect on a substantial number of small entities in any region or nationally. As noted previously, we expect at most $22,000 to be spent in total in the refuges' local economies. The maximum increase will be less than one-tenth of 1 percent for local retail trade spending (see table 3, below). Table 3 does not include entries for those NWRs for which we project no changes in recreation opportunities in 2023-2024; see table 2, above.

Table 3—Comparative Expenditures for Retail Trade Associated With Additional Station Visitation for 2023-2024
[Thousands, 2022 dollars]
Station/county(ies) | Retail trade in 2017 ¹ | Estimated maximum addition from new activities | Addition as % of total | Establishments in 2017 ¹ | Establishments with fewer than 10 employees in 2017
Cahaba River:
Bibb, AL | $143,008 | $5 | <0.1 | 52 | 39
Everglades Headwaters:
Hardee, FL | 223,259 | 3 | <0.1 | 75 | 63
Highlands, FL | 1,505,788 | 3 | <0.1 | 342 | 246
Polk, FL | 9,949,483 | 3 | <0.1 | 1,814 | 1,276
Minnesota Valley:
Carver, MN | 1,116,550 | 5 | <0.1 | 220 | 142
1 U.S. Census Bureau.

With the small change in overall spending anticipated from this proposed rule, it is unlikely that a substantial number of small entities will have more than a small impact from the spending change near the affected stations. Therefore, we certify that this rule, as proposed, will not have a significant economic effect on a substantial number of small entities as defined under the Regulatory Flexibility Act (5 U.S.C. 601 et seq.). A regulatory flexibility analysis is not required. Accordingly, a small entity compliance guide is not required.

Congressional Review Act

The proposed rule is not a major rule under 5 U.S.C. 804(2), the Congressional Review Act. We anticipate no significant employment or small business effects. This proposed rule:

a. Would not have an annual effect on the economy of $100 million or more. The minimal impact would be scattered across the country and would most likely not be significant in any local area.

b. Would not cause a major increase in costs or prices for consumers; individual industries; Federal, State, or local government agencies; or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States, and, therefore, it should not affect prices for hunting equipment and supplies, or the retailers that sell equipment.

c. Would not have significant adverse effects on competition, employment, investment, productivity, innovation, or the ability of U.S.-based enterprises to compete with foreign-based enterprises. This proposed rule represents only a small proportion of recreational spending at NWRs. Therefore, if adopted, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The proposed rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This proposed rule would affect only visitors at NWRs and would describe what they can do while they are on a Service station.

Federalism (E.O. 13132)

As discussed under Regulatory Planning and Review and Unfunded Mandates Reform Act, above, this proposed rule would not have sufficient federalism implications to warrant the preparation of a federalism summary impact statement under E.O. 13132. In preparing this proposed rule, we worked with State governments.

Civil Justice Reform (E.O. 12988)

In accordance with E.O. 12988, the Department of the Interior has determined that this proposed rule would not unduly burden the judicial system and that it meets the requirements of sections 3(a) and 3(b)(2) of the Order.

Energy Supply, Distribution or Use (E.O. 13211)

On May 18, 2001, the President issued E.O. 13211 on regulations that significantly affect energy supply, distribution, or use. E.O. 13211 requires agencies to prepare statements of energy effects when undertaking certain actions. Because this proposed rule would expand hunting at two NWRs, it is not a significant regulatory action under E.O. 12866, and we do not expect it to significantly affect energy supplies, distribution, or use. Therefore, this action is not a significant energy action, and no statement of energy effects is required.

Consultation and Coordination With Indian Tribal Governments (E.O. 13175)

In accordance with E.O. 13175, we have evaluated possible effects on federally recognized Indian Tribes and have determined that there are no effects. We coordinate recreational use on NWRs and National Fish Hatcheries with Tribal governments having adjoining or overlapping jurisdiction before we propose the regulations.

Paperwork Reduction Act (PRA)

This rule does not contain any new collections of information that require approval by the Office of Management and Budget (OMB) under the Paperwork Reduction Act of 1995 (44 U.S.C. 3501 et seq.). OMB previously approved the information collection requirements associated with application and reporting requirements associated with hunting and sport fishing and assigned OMB Control Number 1018-0140 (expires 09/30/2025). An agency may not conduct or sponsor, and a person is not required to respond to, a collection of information unless it displays a currently valid OMB control number.

Endangered Species Act Section 7 Consultation

We comply with section 7 of the Endangered Species Act of 1973, as amended (16 U.S.C. 1531 et seq.), when developing comprehensive conservation plans and step-down management plans—which would include hunting and/or fishing plans—for public use of refuges and hatcheries, and prior to implementing any new or revised public recreation program on a station as identified in 50 CFR 26.32. We complied with section 7 for each of the stations affected by this proposed rulemaking.

National Environmental Policy Act

We analyzed this proposed rule in accordance with the criteria of the National Environmental Policy Act of 1969 (NEPA; 42 U.S.C. 4332(C)), 43 CFR part 46, and 516 Departmental Manual (DM) 8.

A categorical exclusion from NEPA documentation applies to publication of proposed amendments to station-specific hunting and fishing regulations because they are technical and procedural in nature, and the environmental effects are too broad, speculative, or conjectural to lend themselves to meaningful analysis (43 CFR 46.210 and 516 DM 8). Concerning the actions that are the subject of this proposed rulemaking, we have complied with NEPA at the project level when developing each proposal. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these proposed station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations at 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States and Territories listed below:

Hawaii, Idaho, Oregon, and Washington. Regional Chief, National Wildlife Refuge System, U.S. Fish and Wildlife Service, Eastside Federal Complex, Suite 1692, 911 NE 11th Avenue, Portland, OR 97232-4181; Telephone (503) 231-6203.

Arizona, New Mexico, Oklahoma, and Texas. Regional Chief, National Wildlife Refuge System, U.S. Fish and Wildlife Service, P.O. Box 1306, 500 Gold Avenue SW, Albuquerque, NM 87103; Telephone (505) 248-6635.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5476.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7356.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-4377.

Alaska. Regional Chief, National Wildlife Refuge System, U.S. Fish and Wildlife Service, 1011 E Tudor Rd., Anchorage, AK 99503; Telephone (907) 786-3545.

California and Nevada. Regional Chief, National Wildlife Refuge System, U.S. Fish and Wildlife Service, 2800 Cottage Way, Room W-2606, Sacramento, CA 95825; Telephone (916) 767-9241.

Primary Author

Kate Harrigan, Division of Natural Resources and Conservation Planning, National Wildlife Refuge System, is the primary author of this rulemaking document.

List of Subjects in 50 CFR Part 32

Fishing, Hunting, Reporting and recordkeeping requirements, Wildlife, Wildlife refuges.

Proposed Regulation Promulgation

For the reasons described in the preamble, we propose to amend title 50, chapter I, subchapter C of the Code of Federal Regulations as set forth below:

PART 32—HUNTING AND FISHING

1. The authority citation for part 32 continues to read as follows:

Authority: 5 U.S.C. 301; 16 U.S.C. 460k, 664, 668dd-668ee, and 715i; Pub. L. 115-20, 131 Stat. 86.

2. Amend § 32.24 by revising paragraphs (s)(1)(iv) and (vi) to read as follows:

§ 32.24 California.

* * * * *

(s) * * *

(1) * * *

(iv) We restrict hunters in the spaced zone area of the East Bear Creek Unit and West Bear Creek Unit to their assigned zone except when they are traveling to and from the parking area, retrieving downed birds, or pursuing crippled birds.

* * * * *

(vi) We require State-issued Type A area permits for accessing the Freitas Unit on Wednesdays, Saturdays, and Sundays.

* * * * *

3. Amend § 32.28 by revising paragraphs (e)(2) and (3) to read as follows:

§ 32.28 Florida.

* * * * *

(e) * * *

(2) Upland game hunting. We allow upland game hunting and the incidental take of nonnative wildlife as defined by the State on designated areas of the refuge in accordance with State regulations and applicable State Wildlife Management Area regulations and the following condition: We require the use of non-lead ammunition when hunting upland game and the incidental take of nonnative wildlife on the Corrigan Ranch/Okeechobee Unit.

(3) Big game hunting. We allow big game hunting and the incidental take of nonnative wildlife as defined by the State on designated areas of the refuge in accordance with State regulations and applicable State Wildlife Management Area regulations and the following condition: We require the use of non-lead ammunition when hunting big game and the incidental take of nonnative wildlife on the Corrigan Ranch/Okeechobee Unit.

* * * * *

4. Amend § 32.35 by revising paragraph (a)(1)(v) to read as follows:

§ 32.35 Kansas.

* * * * *

(a) * * *

(1) * * *

(v) We close the Neosho River and refuge lands north of the Neosho River to all hunting from November 1 through March 1.

* * * * *

5. Amend § 32.38 by:

a. Adding paragraph (b)(1)(v);

b. Revising paragraphs (b)(2)(i) and (3)(i);

c. Adding paragraph (f)(1)(v); and

d. Revising paragraphs (f)(2)(i), (3)(i), and (4)(ii).

The additions and revisions read as follows:

§ 32.38 Maine.

* * * * *

(b) * * *

(1) * * *

(v) You may only use or possess approved non-lead shot shells, ammunition, and tackle while in the field (see § 32.2(k)).

(2) * * *

(i) The conditions set forth at paragraphs (b)(1)(i) through (iii) and (v) of this section apply.

* * * * *

(3) * * *

(i) The conditions set forth at paragraphs (b)(1)(i) through (iii) and (v) of this section apply.

* * * * *

(f) * * *

(1) * * *

(v) You may only use or possess approved non-lead shot shells, ammunition, and tackle while in the field (see § 32.2(k)).

(2) * * *

(i) The conditions set forth at paragraphs (f)(1)(i), (iii), and (v) of this section apply.

* * * * *

(3) * * *

(i) The conditions as set forth at paragraphs (f)(1)(i), (iv), and (v) of this section apply.

* * * * *

(4) * * *

(ii) The condition set forth at paragraph (f)(1)(v) of this section applies.

* * * * *

6. Amend § 32.39 by:

a. Adding paragraph (a)(1)(iv);

b. Revising paragraph (a)(2)(i);

c. Adding paragraphs (a)(3)(vi), (4)(iii), (b)(2)(iv), (3)(iv), (4)(iii), and (c)(1)(v); and

d. Revising paragraphs (c)(2), (3)(i), and (4).

The additions and revisions read as follows:

§ 32.39 Maryland.

* * * * *

(a) * * *

(1) * * *

(iv) You may only use or possess approved non-lead shot shells, ammunition, and tackle while in the field (see § 32.2(k)).

(2) * * *

(i) The conditions set forth at paragraphs (a)(1)(iv) and (a)(3)(i) through (v) of this section apply.

* * * * *

(3) * * *

(vi) The condition set forth at paragraph (a)(1)(iv) of this section applies.

(4) * * *

(iii) The condition set forth at paragraph (a)(1)(iv) of this section applies.

(b) * * *

(2) * * *

(iv) You may only use or possess approved non-lead shot shells, ammunition, and tackle while in the field (see § 32.2(k)).

(3) * * *

(iv) The condition set forth at paragraph (b)(2)(iv) of this section applies.

(4) * * *

(iii) The condition set forth at paragraph (b)(2)(iv) of this section applies.

(c) * * *

(1) * * *

(v) You may only use or possess approved non-lead shot shells, ammunition, and tackle while in the field (see § 32.2(k)).

(2) Upland game hunting. We allow hunting of gray squirrel, eastern cottontail rabbit, and woodchuck on designated areas of the refuge subject to the following condition: The conditions set forth at paragraphs (c)(1)(i) through (iii) and (v) of this section apply.

(3) * * *

(i) The conditions set forth at paragraphs (c)(1)(i), (ii), and (v) of this section apply.

* * * * *

(4) Sport fishing. We allow sport fishing on designated areas of the refuge subject to the following condition: The condition set forth at paragraph (c)(1)(v) of this section applies.

* * * * *

7. Amend § 32.40 by:

a. Adding paragraph (a)(4)(iii); and

b. Revising paragraphs (b)(4) and (f)(4).

The addition and revisions read as follows:

§ 32.40 Massachusetts.

* * * * *

(a) * * *

(4) * * *

(iii) We allow fishing from legal sunrise to legal sunset.

(b) * * *

(4) Sport Fishing. We allow sport fishing on designated areas of the refuge from legal sunrise to legal sunset.

* * * * *

(f) * * *

(4) Sport Fishing. We allow sport fishing on designated areas of the refuge from legal sunrise to legal sunset.

* * * * *

8. Amend § 32.47 by:

a. Revising paragraphs (d)(1)(i) and (iii);

b. Adding paragraphs (d)(1)(iv) and (v); and

c. Revising paragraph (d)(2)(iii).

The revisions and addition read as follows:

§ 32.47 Nevada.

* * * * *

(d) * * *

(1) * * *

(i) We allow hunting on designated days. We prohibit any migratory game bird hunting after January 31.

* * * * *

(iii) From October 1 to February 1, you may only be in possession of or use 25 or fewer shot shells per hunt day.

(iv) We only allow hunters to use watercraft to travel to and from their hunting location for each day's hunt. Watercraft must be completely immobilized while hunting, except to retrieve downed or crippled birds.

(v) We prohibit shooting 150 feet (45 meters) from the center line of roads (including access roads and two tracks), parking areas, levees, or into or from safety zones.

(2) * * *

(iii) The conditions set forth at paragraphs (d)(1)(iii) and (iv) of this section apply.

* * * * *

9. Amend § 32.48 by revising paragraph (b) to read as follows:

§ 32.48 New Hampshire.

* * * * *

(b) Silvio O. Conte National Fish and Wildlife Refuge—

(1) Migratory game bird hunting. We allow hunting of duck, goose, coot, Wilson's snipe, and American woodcock on designated areas of the refuge subject to the following condition: We allow the use of dogs consistent with State regulations, except dog training is only allowed from August 1 through the last Saturday in September during daylight hours.

(2) Upland game hunting. We allow hunting of coyote, fox, raccoon, woodchuck, red squirrel, eastern gray squirrel, porcupine, skunk, crow, snowshoe hare, muskrat, opossum, fisher, mink, weasel, ring-necked pheasant, and ruffed grouse on designated areas of the refuge subject to the following condition: We allow the use of dogs consistent with State regulations, except dog training is only allowed from August 1 through the last Saturday in September during daylight hours.

(3) Big game hunting. We allow hunting of white-tailed deer, moose, black bear, and wild turkey on designated areas of the refuge subject to the following conditions:

(i) We allow the use of dogs consistent with State regulations, except dog training is only allowed from August 1 through the last Saturday in September during daylight hours.

(ii) We allow tree stands and blinds that are clearly marked with the owner's State hunting license number.

(iii) You must remove your tree stand(s) and blind(s) no later than 72 hours after the close of the season (see § 27.93 of this chapter).

(4) Sport fishing. We allow sport fishing on designated areas of the refuge.

* * * * *

10. Amend § 32.56 by revising paragraph (l)(2) to read as follows:

§ 32.56 Oregon.

* * * * *

(l) * * *

(2) Upland game hunting. We allow hunting of upland game birds and turkey on designated areas of the refuge subject to the following condition: The condition set forth at paragraph (l)(1)(i) of this section applies.

* * * * *

11. Amend § 32.57 by:

a. Adding paragraph (b)(1)(v);

b. Revising paragraphs (b)(2)(iii) and (3)(ii); and

c. Adding paragraph (b)(4)(vi).

The additions and revisions read as follows:

§ 32.57 Pennsylvania.

* * * * *

(b) * * *

(1) * * *

(v) You may only use or possess approved non-lead shot shells, ammunition, and tackle while in the field (see § 32.2(k)).

(2) * * *

(iii) The conditions set forth at paragraphs (b)(1)(iv) and (v) of this section apply.

* * * * *

(3) * * *

(ii) The conditions set forth at paragraphs (b)(1)(iv) and (v) of this section apply.

(4) * * *

(vi) The condition set forth at paragraph (b)(1)(v) of this section applies.

* * * * *

§ 32.62 [Amended]

12. Amend § 32.62 by:

a. Removing paragraph (h)(3)(x); and

b. Redesignating paragraphs (h)(3)(xi) through (xiii) as (h)(3)(x) through (xii), respectively.

13. Amend § 32.64 by:

a. Adding paragraph (a)(4)(v); and

b. Revising paragraph (b).

The addition and revision read as follows:

§ 32.64 Vermont.

* * * * *

(a) * * *

(4) * * *

(v) We allow fishing from legal sunrise to legal sunset.

(b) Silvio O. Conte National Fish and Wildlife Refuge—

(1) Migratory game bird hunting. We allow hunting of duck, goose, coot, crow, snipe, and American woodcock on designated areas of the refuge subject to the following conditions:

(i) We allow disabled hunters to hunt from a vehicle that is at least 10 feet from the traveled portion of the refuge road if the hunter possesses a State-issued disabled hunting license and a Special Use Permit (FWS Form 3-1383-G) issued by the refuge manager.

(ii) We allow the use of dogs consistent with State regulations, except dog training is only allowed from August 1 through the last Saturday in September during daylight hours. We prohibit dog training on the Putney Mountain Unit.

(iii) We prohibit shooting from, over, or within 25 feet of the traveled portion of any road that is accessible to motor vehicles.

(2) Upland game hunting. We allow hunting of coyote, fox, raccoon, bobcat, woodchuck, red squirrel, eastern gray squirrel, porcupine, skunk, snowshoe hare, eastern cottontail, muskrat, opossum, weasel, pheasant, and ruffed grouse on designated areas of the refuge subject to the following conditions:

(i) The conditions set forth at paragraphs (b)(1)(ii) and (iii) of this section apply.

(ii) At the Putney Mountain Unit, we allow the use of dogs only for hunting ruffed grouse, fall turkey, squirrel, and woodcock.

(iii) We require hunters hunting at night to possess a Special Use Permit (FWS Form 3-1383-G) issued by the refuge manager.

(3) Big game hunting. We allow hunting of white-tailed deer, moose, black bear, and wild turkey on designated areas of the refuge subject to the following conditions:

(i) The conditions set forth at paragraphs (b)(1)(ii) and (iii) of this section apply.

(ii) You may use portable tree stands and/or blinds. You must clearly label your tree stand(s) and/or blind(s) with your hunting license number. You must remove your tree stand(s) and/or blind(s) no later than 72 hours after the close of the season (see § 27.93 of this chapter).

(iii) You may retrieve moose at the Nulhegan Basin Division with the use of a commercial moose hauler, if the hauler possesses a Special Use Permit (FWS Form 3-1383-C) issued by the refuge manager.

(4) Sport fishing. We allow sport fishing on designated areas of the refuge consistent with State regulations.

* * * * *

14. Amend § 32.65 by:

a. Adding paragraph (b)(1)(vi);

b. Revising paragraph (b)(2)(i);

c. Adding paragraphs (b)(2)(vii) and (viii);

d. Revising paragraph (b)(3)(i);

e. Adding paragraphs (b)(4)(vi) and (c)(2)(iii);

f. Revising paragraph (c)(3)(i);

g. Adding paragraph (n)(1)(vi); and

h. Revising paragraphs (n)(2)(i) and (3)(i).

The additions and revisions read as follows:

§ 32.65 Virginia.

* * * * *

(b) * * *

(1) * * *

(vi) You may only use or possess approved non-lead shot shells and ammunition while in the field (see § 32.2(k)).

(2) * * *

(i) The conditions set forth at paragraphs (b)(1)(i) and (vi) of this section apply. All occupants of a vehicle or hunt party must possess a signed refuge hunt brochure and be actively engaged in hunting unless aiding a disabled person who possesses a valid State disabled hunting license.

* * * * *

(vii) Hunting is allowed only during the regular State deer season.

(viii) We prohibit hunting on Sundays.

(3) * * *

(i) The conditions set forth at paragraphs (b)(1)(vi) and (b)(2)(i), (ii), and (v) through (viii) of this section apply.

* * * * *

(4) * * *

(vi) The condition set forth at paragraph (b)(1)(vi) of this section applies.

(c) * * *

(2) * * *

(iii) We prohibit hunting on Sundays.

(3) * * *

(i) The conditions set forth at paragraphs (c)(1)(i), (ii), (iv) through (v), and (c)(2)(iii) of this section apply.

* * * * *

(n) * * *

(1) * * *

(vi) You may only use or possess approved non-lead shot shells, ammunition, and tackle while in the field (see § 32.2(k)).

(2) * * *

(i) The conditions set forth in paragraphs (n)(1)(i), (iii), and (vi) of this section apply.

* * * * *

(3) * * *

(i) The conditions set forth at paragraphs (n)(1)(i), (ii), (vi), and (n)(2)(iv) of this section apply.

* * * * *

15. Amend § 32.66 by revising paragraph (b)(4)(i) to read as follows:

§ 32.66 Washington.

* * * * *

(b) * * *

(4) * * *

(i) On waters open to fishing, we allow fishing only from the start of the State season to September 30, except that we allow fishing year-round on Falcon, Heron, Goldeneye, Corral, Blythe, Chukar, and Scaup Lakes.

* * * * *

Shannon A. Estenoz,
Assistant Secretary for Fish and Wildlife and Parks.

[FR Doc. 2023-13360 Filed 6-22-23; 8:45 am]

BILLING CODE 4333-15-P